SECURITIES AND EXCHANGE COMMISSION

Sunshine Act Meeting

Federal RegisterCITATION OF PREVIOUS ANNOUNCEMENT: [77 FR 74894, December 18, 2012].

STATUS: Closed Meeting.

PLACE: 100 F Street, NE., Washington, DC.

DATE AND TIME OF PREVIOUSLY ANNOUNCED MEETING: Thursday, December 20, 2012 at 2:00 p.m.

CHANGE IN THE MEETING: Time Change.

The Closed Meeting scheduled for Thursday, December 20, 2012 at 2:00 p.m. was changed to Thursday, December 20, 2012 at 9:00 a.m.

At times, changes in Commission priorities require alterations in the scheduling of meeting items. For further information and to ascertain what, if any, matters have been added, deleted or postponed, please contact the Office of the Secretary at (202) 551-5400.

Dated: December 20, 2012.
Elizabeth M. Murphy,
Secretary.

[FR Doc. 2012-31030 Filed 12-20-12; 4:15 pm]

BILLING CODE 8011-01-P